DEPARTMENT OF ENERGY

Federal Energy Regulatory Commission

[Project No. 2883-009]

Notice of Scoping Meetings and Environmental Site Review and Soliciting Scoping Comments

Take notice that the following hydroelectric application has been filed with the Commission and is available for public inspection.

a. Type of Application: New Major License.

b. Project No.: 2883-009.

c. Date filed: May 30, 2018.

d. Applicant: Aquenergy Systems, LLC.

e. Name of Project: Fries Hydroelectric Project.

f. Location: On the New River in the Town of Fries, Grayson County, Virginia. No federal lands are occupied by the project works or located within the project boundary.

g. Filed Pursuant to: Federal Power Act, 16 U.S.C. 791(a)-825(r).

h. Applicant Contact: Ms. Beth E. Harris, P.E., Southeast Regional Manager, Enel Green Power North America, Inc., 11 Anderson Street, Piedmont, SC 29673, Phone: (864) 846-0042 ext. 100, Email: beth.harris@enel.com, or Mr. Kevin Webb, Hydro Licensing Manager, Enel Green Power North America, Inc., 100 Brickstone Square, Suite 300, Andover, MA 01810, Phone: (978) 935-6039, Email: kevin.webb@enel.com.

i. FERC Contact: Brandi Sangunett, Phone: 202-502-8393, Email: brandi.sangunett@ferc.gov.

j. Deadline for filing scoping comments: January 7, 2019.

The Commission strongly encourages electronic filing. Please file motions to intervene and protests using the Commission's eFiling system at http://www.ferc.gov/docs-filing/efiling.asp. For assistance, please contact FERC Online Support at FERCOnlineSupport@ferc.gov, (866) 208-3676 (toll free), or (202) 502-8659 (TTY). In lieu of electronic filing, please send a paper copy to: Secretary, Federal Energy Regulatory Commission, 888 First Street NE, Washington, DC 20426. The first page of any filing should include docket number P-2883-009.

The Commission's Rules of Practice require all intervenors filing documents with the Commission to serve a copy of that document on each person on the official service list for the project. Further, if an intervenor files comments or documents with the Commission relating to the merits of an issue that may affect the responsibilities of a particular resource agency, they must also serve a copy of the document on that resource agency.

k. This application has been accepted, but is not ready for environmental analysis at this time.

l. The existing Fries Hydroelectric Project (Fries Project) consists of: (1) A 41-foot-high, 610-foot-long rock masonry dam with a 500-foot-long spillway; (2) an impoundment with an 88-acre surface area at the normal pool elevation (spillway crest elevation) of 2,188.27 feet National Geodetic Vertical Datum of 1929 (NGVD 29); (3) an approximately 750-foot-long, 110-foot-wide intake canal with four 15.5-foot-high, 6.5-foot-wide headgates; (4) a canal spillway consisting of 10 stoplog bays totaling 47 feet in width; (5) two 12.5-foot-high, 5.0-foot-wide canal gates; (6) a 28-foot-long, 10.5-square-foot concrete penstock to supply water to the unit 4 powerhouse; (7) a steel powerhouse that contains a single vertical Kaplan turbine with a capacity of 2.1 megawatts (MW) that discharges into a 180-foot-long, 75-foot-wide, 12-foot-deep tailrace; (8) a masonry powerhouse that contains one vertical and two horizontal Francis turbines with a total capacity of 3.0 MW that discharges into a 180-foot-long, 120-foot-wide, 12-foot-deep tailrace; (9) a 500-foot-long, 450-foot-wide bypassed reach that extends from the toe of the dam to the confluence with the tailraces; (10) a 567-foot-long, 13.2-kilovolt (kV) transmission line that runs from the steel powerhouse to the interconnection point with the grid; (11) a 130-foot-long transmission line that connects the masonry powerhouse to a 5,000 kilovolt-amp step-up transformer and an additional 323-foot-long, 13.2-kV transmission line leading from the transformer to the interconnection point; and (12) appurtenant facilities.

Aquenergy is proposing two modifications to the existing Fries Project boundary. First, the project boundary upstream of the canal intake would be expanded to include all of Aquenergy's existing property on the north bank of the New River out to the right-of-way for Route 94 and upstream of the dam to encompass the impoundment access area. Second, Aquenergy's existing powerhouse access road easement between Route 94 and the masonry powerhouse would be included in the project boundary. As proposed, the project boundary would encompass 5.34 acres of land.

The Fries Project is operated in a run-of-river mode. For the period 2003 through 2016, the average annual generation at the Fries Project was 26,150 megawatt-hours.

m. A copy of the application is available for review at the Commission in the Public Reference Room or may be viewed on the Commission's website at http://www.ferc.gov using the “eLibrary” link. Enter the docket number excluding the last three digits in the docket number field to access the document. For assistance, contact FERC Online Support. A copy is also available for inspection and reproduction at the address in item h above.

You may also register online at http://www.ferc.gov/docs-filing/esubscription.asp to be notified via email of new filings and issuances related to this or other pending projects. For assistance, contact FERC Online Support.

n. Scoping Process: The Commission intends to prepare an environmental assessment (EA) on the project in accordance with the National Environmental Policy Act. The EA will consider both site-specific and cumulative environmental impacts and reasonable alternatives to the proposed action.

Scoping Meetings

In addition to written comments solicited by this SD1, we will hold two public scoping meetings in the vicinity of the project. An evening meeting will focus on receiving input from the public, and a daytime meeting will focus on concerns of the resource agencies, NGO's, and Indian tribes. We invite all interested agencies, Indian tribes, NGOs, and individuals to attend one or both of the meetings to assist us in identifying the scope of environmental issues that should be analyzed in the EA. The times and locations of the meetings are as follows:

Public Scoping Meeting

Date: Wednesday, December 5, 2018.

Time: 7 p.m. Eastern Standard Time.

Place: Fries Community Center.

Address: 316 W. Main Street, Fries, VA 24330.

Agency Scoping Meeting

Date: Thursday, December 6, 2018.

Time: 9 a.m. Eastern Standard Time.

Place: Fries Community Center.

Address: 316 W. Main Street, Fries, VA 24330.

Copies of the Scoping Document (SD1) outlining the subject areas to be addressed in the EA were distributed to the parties on the Commission's mailing list. Copies of the SD1 will be available at the scoping meeting or may be viewed on the web at http://www.ferc.gov using the “eLibrary” link (see item m above).

Environmental Site Review

The Applicant and FERC staff will conduct a project Environmental Site Review beginning at 2 p.m. on December 5, 2018. All interested individuals, organizations, and agencies are invited to attend. All participants should meet at the Fries Hydropower Project, 616 W. Main Street, Fries, VA 24330. All participants are responsible for their own transportation to the site. Anyone with questions about the Environmental Site Review should contact Mr. Kevin Webb of Aquenergy Systems, LLC at (978) 935-6039 or Kevin.Webb@enel.com. Those individuals planning to participate in the Environmental Site Review should notify Mr. Webb of their intent, no later than November 30, 2018.

Objectives

At the scoping meetings, the staff will: (1) Summarize the environmental issues tentatively identified for analysis in the EA; (2) solicit from the meeting participants all available information, especially quantifiable data, on the resources at issue; (3) encourage statements from experts and the public on issues that should be analyzed in the EA, including viewpoints in opposition to, or in support of, the staff's preliminary views; (4) determine the resource issues to be addressed in the EA; and (5) identify those issues that require a detailed analysis, as well as those issues that do not require a detailed analysis.

Procedures

The meetings are recorded by a stenographer and become part of the formal record of the Commission proceeding on the project.

Individuals, organizations, and agencies with environmental expertise and concerns are encouraged to attend the meeting and to assist the staff in defining and clarifying the issues to be addressed in the EA.

Dated: November 1, 2018.
Kimberly D. Bose,
Secretary.

[FR Doc. 2018-24332 Filed 11-6-18; 8:45 am]

BILLING CODE 6717-01-P